DEPARTMENT OF HOUSING AND URBAN DEVELOPMENT

[Docket No. FR-5130-N-11]

Privacy Act of 1974; Proposed New Routine Use—HUD's Remedial Efforts in the Event of a Breach

AGENCY: Office of the Chief Information Officer, HUD.

ACTION: Establish a new routine use.

SUMMARY: HUD proposes to add a new routine use to all records within its Systems of Records subject to the Privacy Act of 1974 (5 U.S.C. 552a), as amended. This new routine use will permit the disclosure of records, where records are relevant and reasonably necessary to respond, prevent, minimize, or remedy harm that may result from the breach of Personally Identifiable Information (PII).

DATES: Effective date: This proposal shall be effective without further notice on October 15, 2007 unless comments are received on or before that date that would result in a contrary determination.

Comments due by: October 15, 2007.

ADDRESSES: Interested persons are invited to submit comments regarding this new routine use to the Rules Docket Clerk, Office of General Counsel, Department of Housing and Urban Development, 451 Seventh Street, SW., Room 10276, Washington, DC 20410-0500. Communications should refer to the above docket number and title. An original and four copies of comments should be submitted. Facsimile (FAX) comments are not acceptable. A copy of each communication submitted will be available for public inspection and copying between 8 a.m. and 5 p.m. weekdays at the above address.

FOR FURTHER INFORMATION CONTACT: Departmental Privacy Act Officer, telephone number (202) 708-2374. (This is not a toll free number.)

SUPPLEMENTARY INFORMATION: On May 22, 2007, the Office of Management and Budget (OMB) issued Memorandum M-07-16, “Safeguarding Against and Responding to the Breach of Personally Identifiable Information.” The memorandum includes a recommendation for agencies to adopt a new routine use specifically applying to the disclosure of such information in the course of responding to a breach. This new routine use is in response to that recommendation and is intended to facilitate a timely and effective response, allowing the disclosure of pertinent information to those individuals affected, as well as to persons and entities in a position to play a central role, either by assisting in the notification to affected individuals or by direct involvement with preventing, minimizing or remedying harms from the breach. In accordance with the Privacy Act, 5 U.S.C. 552a this document provides public notice that HUD is proposing to adopt a “routine use” that is consistent with the purpose for which information is collected and subject to that Act, see 5 U.S.C. 552a(b)(3); also see 5 U.S.C. 552a(a)(7). HUD believes that the routine use is consistent with the collection of information pertaining to such individuals to disclose Privacy Act records, when, in doing so, it will help protect the interest of individuals, whose information is at risk. Additionally, it improves the Department's ability to take appropriate steps necessary to facilitate a timely and effective response.

Title 5 U.S.C. 552a(e)(4) and (11) provide that the public be afforded a 30-day period in which to comment on a new routine use disclosure, and require published notice of the existence and characters of the systems of records.

The new system report, as required by 5 U.S.C. 552a(r) of the Privacy Act was submitted to the Committee on Homeland Security and Governmental Affairs of the United States Senate, the Committee on Government Reform and Oversight of the House of Representatives, and the Office of Management and Budget (OMB) pursuant to paragraph 4c of Appendix I to OMB Circular No. A-130, Federal Agency Responsibilities for Maintaining Records about Individuals, dated June 25, 1993 (58 FR 36075, July 2, 1993). The existence and characters of HUD's completed Privacy Act systems of records can be viewed on the agency's Web site at: http://www.hud.gov/offices/cio/privacy/pia/fednotice.cfm and currently consist of the following:

HUD/DEPT-1—Accidents, Employees and/or Government Vehicles.

HUD/DEPT-2—Accounting Records.

HUD/DEPT-4—Fee Inspectors and Appraisers

HUD/DEPT-5—Architects and Engineers.

HUD/DEPT-10—Single Family Construction Complaints Files.

HUD/DEPT-15—Equal Opportunity Housing Complaints.

HUD/DEPT-20—Single Family Homeownership Assistance Application and Recertification

HUD/DEPT-22—Housing Counseling.

HUD/DEPT-23—Single-Family Research Files.

HUD/DEPT-24—Investigation Files.

HUD/DEPT-25—Legal Actions Files.

HUD/DEPT-28—Property Improvement and Manufactured (Mobile) Home Loans—Default.

HUD/DEPT-29—Rehabilitation Grants and Loans Files.

HUD/DEPT-32—Mortgages—Delinquent/Default/Assigned/Temporary Mortgage Assistance Payments (TMAP) Program.

HUD/DEPT-34—Pay and Leave Records of Employees.

HUD/DEPT-37—Personnel Travel System.

HUD/DEPT-42—Rent Subsidy Program Files.

HUD/DEPT-43—HUD/DEPT-43 Property Disposition Files (A43; A43C; A80S).

HUD/DEPT-44—Relocation Assistance Files

HUD/DEPT-46—Single Family Case Files

HUD/DEPT-51—Standards of Conduct Files

HUD/DEPT-52—Privacy Act Requesters

HUD/DEPT-53—Consumer Complaint Handling System

HUD/DEPT-54—Parking Permit Application Files

HUD/DEPT-56—Telephone Numbers of HUD Officials

HUD/DEPT-62—Claims Collection Records

HUD/DEPT-63—Secretary's Correspondence Control System

HUD/DEPT-64—Congregate Housing Services Program Data Files

HUD/DEPT-65—IDEAS Program Case Files

HUD/DEPT-66—Grievance Records

HUD/DEPT-67—Employee Counseling and Occupational Health Records

HUD/DEPT-68—HUD Government Motor Vehicle Operators Records

HUD/DEPT-69—Intergovernmental Personnel Act Assignment Records

HUD/DEPT-71—Identity Management System (IDMS) formerly Employee Identification File

HUD/DEPT-72—Congressional Correspondence Files (Communication Control System)

HUD/DEPT-73—Government Property on Personal Charge Files

HUD/DEPT-74—Executive Emergency Cascade Alerting System

HUD/DEPT-75—Priority Consideration/Special Reassignment Files

HUD/DEPT-76—HUD Employee Locator File

HUD/DEPT-77—Audit Planning and Operations System (APOS)

HUD/DEPT-80—Long Distance Telephone Call Detail System.

HUD/DEPT-81—Ethics Filings

HUD/DEPT-82—ADP Security Clearance Information System

HUD/CPD—Rehabilitation Loans-Delinquent/Default

HUD/EC-01—Compliance Case Tracking System

HUD/EC-02—Departmental Tracking System (DTS), V02A

HUD/H-3—Single Family Housing Monitoring System (F-39)

HUD/H-5—Single Family Computerized Homes Underwriting Management System(CHUMS)

HUD/H-6—Single Family Section 518 Files (Constructed Complaints)

HUD/H-7—Previous Participation Review System (PPRS F19) and Active Partners Performance System (APPS-F24P) Previous Participation Files

HUD/H-8—Property Rental Files

HUD/H-9—Property Management Records

HUD/H-11—Tenant Housing Assistance and Contract Verification Data

HUD/H-12—Housing Compliance Files

HUD/H-14—Interstate Land Sales Registration Files

HUD/HS-10—Single Family Insurance System and Home Equity Conversion Mortgage System

HUD/HS-15—Single Family Data Warehouse System (D64A)

HUD/HS-16—Single Family Neighborhood Watch Early Warning System

HUD/HS-50—FHA Lender Approval Files

HUD/OIG-1—Investigative Files of the Office of Inspector General

HUD/OIG-2—Hotline Complaint Files of the Office of Inspector General

HUD/OIG-3—Name Indices System of the Office of Inspector General.

HUD/OIG-4—Independent Auditor Monitoring Files of the Office of Inspector General.

HUD/OIG-5—AutoAudit of the Office of Inspector General.

HUD/OIG-6—AutoInvestigation of the Office of Inspector General.

HUD/PD&R-6—Real Estate Settlement Cost Research Files.

HUD/PD&R-7—Section 8 Program Research Data Files.

HUD/PD&R-8—Income Certification Evaluation Data Files.

HUD/PD&R-9—HUD USER File for Research Products, Services and Publications

OFHEO-01—Financial Management System

FHEO-02—Pay and Leave System

OFHEO-03—Employee Identification Card System

OFHEO-04—Property Inventory System

OFHEO-05—Senior Staff Biography System

HUD/PIH-4—Public and Indian Housing Information Center (PIC)

HUD/REAC-1—Tenant Eligibility Verification Files

HUD/REAC-2—Independent Public Accountant Quality Assurance Files

HUD/REAC-3—Quality Assurance/Quality Control Administrative

HUD/ADM-02—Transit Subsidy System, HUD's Direct Distribution Center System, One Touch Student Response System, Training Information System (TRAI), Training Announcement, Nomination, and Confirmation System (TANCS) Single Family Acquired Asset Management System

HUD/CFO/01—HUD Central Accounting and Program System (HUPCAPS)

HUD/CFO-02—Audit Resolution and Corrective Action Tracking System (ARCATS)

Accordingly, this notice establishes a new routine use for all records within HUD's systems of records subject to the Privacy Act of 1974, as amended. The text of this routine use is taken from the routine use that has already been adopted by several agencies; including the Department of Justice for the same purpose described in this notice.

1. General Statement of Routine Uses

To appropriate agencies, entities, and persons when:

(1) The Department suspects or has confirmed that the security or confidentiality of information in the system of records has been compromised;

(2) the Department has determined that as a result of the suspected or confirmed compromise there is a risk of harm to economic or property interests, identity theft or fraud, or harm to the security or integrity of this system or other systems or programs (whether maintained by the HUD or another agency or entity) that rely upon the compromised information; and

(3) the disclosure made to such agencies, entities, and persons is reasonably necessary to assist in connection with the HUD's efforts to respond to the suspected or confirmed compromise and prevent, minimize, or remedy such harm.

Authority: 5 U.S.C. 552a.

Dated: September 7, 2007.
Bajinder Paul,
Acting Chief Information Officer.

[FR Doc. E7-18118 Filed 9-13-07; 8:45 am]

BILLING CODE 4210-67-P